DEPARTMENT OF ENERGY

Energy Information Administration

Agency Information Collection Activities: Proposed Collection; Comment Request

AGENCY: Energy Information Administration (EIA), Department of Energy (DOE).

ACTION: Agency Information Collection Activities: Proposed Collection; Comment Request.

SUMMARY: The EIA is soliciting comments on the proposed revisions and three-year extension to the following Petroleum Supply Forms:

EIA-800, “Weekly Refinery Report,”

EIA-801, “Weekly Bulk Terminal Report,”

EIA-802, “Weekly Product Pipeline Report,”

EIA-803, “Weekly Crude Oil Stocks Report,”

EIA-804, “Weekly Imports Report,”

EIA-810, “Monthly Refinery Report,”

EIA-811, “Monthly Bulk Terminal Report,”

EIA-812, “Monthly Product Pipeline Report,”

EIA-813, “Monthly Crude Oil Report,”

EIA-814, “Monthly Imports Report,”

EIA-816, “Monthly Natural Gas Liquids Report,”

EIA-817, “Monthly Tanker and Barge Movement Report,”

EIA-819M, “Monthly Oxygenate Telephone Report,” and

EIA-820, “Annual Refinery Report.”

DATES: Comments must be filed by August 5, 2002. If you anticipate difficulty in submitting comments within that period, contact the person listed below as soon as possible.

ADDRESSES: Send comments to Stefanie Palumbo, Petroleum Division. To ensure receipt of the comments by the due date, submission by FAX (202-586-5846) or e-mail (stefanie.palumbo@eia.doe.gov) is recommended. The mailing address is Petroleum Division, EI-42, Forrestal Building, U.S. Department of Energy, 1000 Independence Ave., SW, Washington, DC 20585. Alternatively, Stefanie Palumbo may be contacted by telephone at (202) 586-6866.

FOR FURTHER INFORMATION CONTACT: Requests for additional information or copies of any forms and instructions should be directed to Stefanie Palumbo at the address listed above. The proposed forms and changes in definitions and instructions are also available on the Internet at http://www.eia.doe.gov/oil_gas/petroleum/survey_forms/pet_proposed_forms.html

SUPPLEMENTARY INFORMATION:

I. Background

II. Current Actions

III. Request for Comments

I. Background

The Federal Energy Administration Act of 1974 (Pub. L. No. 93-275, 15 U.S.C. 761 et seq.) and the DOE Organization Act (Pub. L. No. 95-91, 42 U.S.C. 7101 et seq.) require the EIA to carry out a centralized, comprehensive, and unified energy information program. This program collects, evaluates, assembles, analyzes, and disseminates information on energy resource reserves, production, demand, technology, and related economic and statistical information. This information is used to assess the adequacy of energy resources to meet near and longer term domestic demands.

The EIA, as part of its effort to comply with the Paperwork Reduction Act of 1995 (Pub. L. 104-13, 44 U.S.C. Chapter 35), provides the general public and other Federal agencies with opportunities to comment on collections of energy information conducted by or in conjunction with the EIA. Any comments received help the EIA to prepare data requests that maximize the utility of the information collected, and to assess the impact of collection requirements on the public. Also, the EIA will later seek approval by the Office of Management and Budget (OMB) under Section 3507(a) of the Paperwork Reduction Act of 1995.

The weekly surveys (Forms EIA-800, EIA-801, EIA-802, EIA-803, and EIA-804) are designed to highlight information on petroleum refinery operations, inventory levels, and imports of selected petroleum products in a more timely manner. The information appears in the publications listed below and is also available electronically through the Internet at http://www.eia.doe.gov/.

Publications:

DOE/EIA-0208 Weekly Petroleum Status Report

DOE/EIA-0109 Petroleum Supply Monthly

DOE/EIA-0035 Monthly Energy Review

DOE/EIA-0202 Short-Term Energy Outlook

DOE/EIA-0383 Annual Energy Outlook

Internet only This Week in Petroleum

The monthly surveys (Forms EIA-810, EIA-811, EIA-812, EIA-813, EIA-814, EIA-816, EIA-817 and EIA-819M) are designed to provide statistically reliable and comprehensive information not available from other sources to EIA, other Federal agencies, and the private sector for use in forecasting, policy making, planning, and analysis activities. The information appears in the publications listed below and is also available electronically through the Internet at http://www.eia.doe.gov/.

Publications:

DOE/EIA-0208 Weekly Petroleum Status Report

DOE/EIA-0109 Petroleum Supply Monthly

DOE/EIA-0340 Petroleum Supply Annual

DOE/EIA-0035 Monthly Energy Review

DOE/EIA-0384 Annual Energy Review

DOE/EIA-0202 Short-Term Energy Outlook

DOE/EIA-0383 Annual Energy Outlook

The annual survey (Form EIA-820) provides data on the operations of all operating and idle petroleum refineries (including new refineries under construction), blending plants, refineries shutdown with useable storage capacity, and refineries shutdown during the previous year. The information appears in the Petroleum Supply Annual (DOE/EIA-0340) and is also available electronically through the Internet at http://www.eia.doe.gov/.

II. Current Actions

The EIA will request a 3-year extension of the collection authority for each of the above-referenced surveys except for the Form EIA-807. The Form EIA-807 will be eliminated. Additionally, as a means of improving its petroleum supply surveys to reflect the changing regulations and industry, the EIA proposes the following changes for the 2003 and 2004 collection periods.

• 2003 Survey Changes

• Add product detail for Non-Fuel Propylene, Ethylene, and Refinery Butane

• Add Propane/Propylene to weekly surveys (eliminate EIA-807 survey)

• Collect RBOB (Reformulated Gasoline Blendstock for Oxygenate Blending) as a separate item under gasoline blending components

• Add a gasoline blending section to bulk terminal reports (Forms EIA-801 and EIA-811)

• Modify oxygenate survey EIA-819 to eliminate redundant inventory reporting and capture production of gasoline blending components

• Add a natural gas activity section to the natural gas liquids report EIA-816

• 2004 Survey Changes

• Add finished gasoline product detail

• Modify distillate fuel oil sulfur levels

• Collect product detail for unfinished oils input and production

• Modify reporting categories for hydrocracking and hydrotreating capacity

• Eliminate naphtha-type jet fuel as a separate product

Specific changes to each of the forms are outlined below:

2003 Changes Proposed by EIA

Change the title of the Form EIA-800 from “Weekly Refinery Report” to “Weekly Refinery and Fractionator Report.”

Collect three additional products for Form EIA-800 (Weekly Refinery and Fractionator Report), Form EIA-802 (Weekly Product Pipeline Report), and Form EIA-804 (Weekly Imports Report).

• Propane/propylene,

• Reformulated (including RBOB) blending components, and

• All other motor gasoline blending components.

Collect four additional products in the bulk terminal stocks section (Section A) of Form EIA-801 (Weekly Bulk Terminal Report). The products are:

• Reformulated (including RBOB) blending components,

• All other motor gasoline blending components,

• Propane/propylene, and

• Propylene (nonfuel use).

Add a new section for gasoline blending (Section B) to the Form EIA-801 (Weekly Bulk Terminal Report). Data for inputs and/or production of the following products will be collected in the new gasoline blending section:

• Reformulated (including RBOB) blending components (inputs),

• All other motor gasoline blending components (inputs),

• Oxygenates, natural gas plant liquids, and liquefied refinery gases (inputs), and

• Finished motor gasoline in the categories:

—Reformulated (inputs and production),

—Oxygenated (inputs and production), and

—Other finished (inputs and production).

Collect three additional products for Form EIA-810 (Monthly Refinery Report), Form EIA-812 (Monthly Product Pipeline Report), and Form EIA-814 (Monthly Imports Report).

• All other oxygenates (methanol, TAME (tertiary amyl methyl ether), TBA (tertiary butyl alcohol), and other oxygenates),

• Reformulated (including RBOB) blending components, and

• All other motor gasoline blending components.

Collect six additional products in the bulk terminal stocks section (Section A) of Form EIA-811 (Monthly Bulk Terminal Report). The products are:

• Reformulated (including RBOB) blending components,

• All other motor gasoline blending components,

• Ethylene,

• Propylene (nonfuel use),

• Refinery-grade butane, and

• All other oxygenates (methanol, TAME, TBA, and other oxygenates).

Add a new section for gasoline blending (Section B) to the Form EIA-811. Data for inputs and/or production of the following products will be collected in the new gasoline blending section:

• Reformulated (including RBOB) blending components (inputs and production),

• All other motor gasoline blending components (inputs and production),

• Oxygenates (inputs) in the categories:

—Fuel Ethanol (FE),

—Ethyl Tertiary Butyl Ether (ETBE),

—Methyl Tertiary Butyl Ether (MTBE), and

—All other oxygenates (methanol, TAME, TBA, and other oxygenates).

• Natural gas plant liquids, and liquefied refinery gases (inputs) in the categories:

—Normal butane,

—Isobutane, and

—Pentanes plus.

• Finished motor gasoline (inputs and production) in the categories:

—Reformulated,

—Oxygenated, and

—Other finished.

Add a new section for natural gas activity (Part 2) to the Form EIA-816 (Monthly Natural Gas Liquids Report). Quantities of the following will be collected:

• Volume of natural gas received during the month,

• Volume of natural gas consumed as fuel at the facility for all purposes, and

• Volume of natural gas shipments during the month.

Collect two additional products for Form EIA-817 (Monthly Tanker and Barge Movement Report):

• Reformulated (including RBOB) blending components, and

• All other motor gasoline blending components.

Form EIA-819M (Monthly Oxygenate Telephone Report) modifications include:

• Change the number of the Form EIA-819M to Form EIA-819.

• Change filing and publication dates for monthly oxygenate data to match petroleum supply surveys (i.e., change filing date from 7 working days after the end of each report month to 20 calendar days after the end of each report month).

• Change the publication date from 15 working days after the end of each report month to approximately 52 days after the end of each report month.

• Eliminate reporting on Form EIA-819 by bulk terminal and pipeline operators. (This eliminates duplicate reporting of stocks on Form EIA-819 and Forms EIA-811 or Form EIA-812. The EIA-819 will survey merchant and captive oxygenate producers exclusively.)

• Discontinue reporting stocks at captive MTBE plants. This eliminates duplicate reporting of stocks on Form EIA-819 and Form EIA-810.

• Report production of motor gasoline blending components. (This change is needed to capture new gasoline blending components production from merchant MTBE plants that have converted to alkylation plants. Without this change the petroleum supply data system will undercount total gasoline supply.)

• Collect these new data elements:

—MTBE merchant plant production,

—MTBE captive plant production,

—All other oxygenates (methanol, TAME, TBA, and other oxygenates) production, and

—All other oxygenates (methanol, TAME, TBA, and other oxygenates) ending stocks.

Collect one new product for Form EIA-820 (Annual Refinery Report):

• other oxygenates (methanol, TAME, TBA, and other oxygenates)

There are no proposed changes to the Form EIA-803 (Weekly Crude Oil Stocks Report) or the Form EIA-813 (Monthly Crude Oil Report).

2004 Changes Proposed by EIA

Modify the product detail on the Forms EIA-800, EIA-801, EIA-802, EIA-804, EIA-810, EIA-811, EIA-812, EIA-814, and EIA-817 as follows:

Finished Motor Gasoline

• Reformulated (blended with ether)

• Reformulated (blended with alcohol)

• Reformulated (non-oxygenated)

• Oxygenated (blended with ether)

• Oxygenated (blended with alcohol)

• Conventional (blended with ether)

• Conventional (blended with alcohol)

• Conventional (non-oxygenated).

Motor Gasoline Blending Components

• Reformulated (including RBOB) for blending with ether

• Reformulated (including RBOB) for blending with alcohol

• Gasoline treated as blendstock (GTAB)

• All other motor gasoline blending components.

Distillate Fuel Oil

• 15 ppm sulfur and under

• Greater than 15 ppm sulfur to 50 ppm sulfur (inclusive)

• Greater than 50 ppm sulfur to 500 ppm sulfur (inclusive)

• Greater than 500 ppm sulfur to 2000 ppm sulfur (inclusive)

• Greater than 2000 ppm sulfur.

Naphtha-Type Jet Fuel

• Eliminate reporting of Naphtha-Type Jet Fuel on the Forms EIA-800, EIA-801, EIA-802, EIA-804, EIA-810, EIA-811, EIA-812, EIA-814, EIA-817, and EIA-820 as a separate product. Include it in miscellaneous products.

Form EIA-820 Changes

Add new categories for catalytic hydrocracking capacity by type of feed:

• Distillate

• Gas Oil

• Residual

Add new categories for catalytic hydrotreating capacity by product classification:

• Gasoline Desulfurization

• Kerosene and Jet Desulfurization

• Diesel Fuel Desulfurization

• Other Distillate

• Residual

• Other

Modify the product detail for distillate fuel storage capacity:

• 15 ppm sulfur and under

• Greater than 15 ppm sulfur to 50 ppm sulfur (inclusive)

• Greater than 50 ppm sulfur to 500 ppm sulfur (inclusive)

• Greater than 500 ppm sulfur to 2000 ppm sulfur (inclusive)

Greater than 2000 ppm sulfur.

III. Request for Comments

Prospective respondents and other interested parties should comment on the actions discussed in item II. The following guidelines are provided to assist in the preparation of comments. Please indicate to which form(s) your comments apply.

General Issues

A. Is the proposed collection of information necessary for the proper performance of the functions of the agency and does the information have practical utility? Practical utility is defined as the actual usefulness of information to or for an agency, taking into account its accuracy, adequacy, reliability, timeliness, and the agency's ability to process the information it collects.

B. What enhancements can be made to the quality, utility, and clarity of the information to be collected?

As a Potential Respondent to the Request for Information

A. What actions could be taken to help ensure and maximize the quality, objectivity, utility, and integrity of the information to be collected?

B. Are the instructions and definitions clear and sufficient? If not, which instructions need clarification?

C. Can the information be submitted by the due date?

D. Public reporting burdens for the forms are estimated to average:

With the 2003 Changes (hours per response)

EIA-800, “Weekly Refinery and Fractionator Report,”—1.38 hours

EIA-801, “Weekly Bulk Terminal Report,”—0.83 hours

EIA-802, “Weekly Product Pipeline Report,”—0.83 hours

EIA-803, “Weekly Crude Oil Stocks Report,”—0.50 hours

EIA-804, “Weekly Imports Report,”—1.38 hours

EIA-810, “Monthly Refinery Report,”—4.13 hours

EIA-811, “Monthly Bulk Terminal Report,”—1.93 hours

EIA-812, “Monthly Product Pipeline Report,”—2.48 hours

EIA-813, “Monthly Crude Oil Report,”—1.50 hours

EIA-814, “Monthly Imports Report,”—2.20 hours

EIA-816, “Monthly Natural Gas Liquids Report,”—0.83 hours

EIA-817, “Monthly Tanker and Barge Movement Report,”—1.93 hours

EIA-819, “Monthly Oxygenate Telephone Report,”—0.55 hours

EIA-820, “Annual Refinery Report”—2.00 hours

With the 2004 Changes (hours per response)

EIA-800, “Weekly Refinery and Fractionator Report,”—1.58 hours

EIA-801, “Weekly Bulk Terminal Report,”—0.95 hours

EIA-802, “Weekly Product Pipeline Report,”—0.95 hours

EIA-803, “Weekly Crude Oil Stocks Report,”—0.50 hours

EIA-804, “Weekly Imports Report,”—1.58 hours

EIA-810, “Monthly Refinery Report,”—4.74 hours

EIA-811, “Monthly Bulk Terminal Report,”—2.21 hours

EIA-812, “Monthly Product Pipeline Report,”—2.85 hours

EIA-813, “Monthly Crude Oil Report,”—1.50 hours

EIA-814, “Monthly Imports Report,”—2.53 hours

EIA-816, “Monthly Natural Gas Liquids Report,”—0.95 hours

EIA-817, “Monthly Tanker and Barge Movement Report,”—2.21 hours

EIA-819, “Monthly Oxygenate Telephone Report,”—0.63 hours

EIA-820, “Annual Refinery Report”—2.30 hours

The estimated burdens include the total time necessary to provide the requested information. In your opinion, how accurate are the estimates?

E. The agency estimates that the only cost to a respondent is for the time it will take to complete the collection. Will a respondent incur any start-up costs for reporting, or any recurring annual costs for operation, maintenance, and purchase of services associated with the information collection?

F. What additional actions could be taken to minimize the burden of this collection of information? Such actions may involve the use of automated, electronic, mechanical, or other technological collection techniques or other forms of information technology.

G. Does any other Federal, State, or local agency collect similar information? If so, specify the agency, the data element(s), and the methods of collection.

As a Potential User of the Information To Be Collected

A. What actions could be taken to help ensure and maximize the quality, objectivity, utility, and integrity of the information disseminated?

B. Is the information useful at the levels of detail to be collected?

C. For what purpose(s) would the information be used? Be specific.

D. Are there alternate sources for the information and are they useful? If so, what are their weaknesses and/or strengths?

Comments submitted in response to this notice will be summarized and/or included in the request for OMB approval of the form. They also will become a matter of public record.

Statutory Authority: Section 3507(h)(1) of the Paperwork Reduction Act of 1995 (Pub. L. No. 104-13, 44 U.S.C. Chapter 35).

Issued in Washington, DC, May 29, 2002.
Jay H. Casselberry,
Agency Clearance Officer, Statistics and Methods Group, Energy Information Administration.

[FR Doc. 02-13893 Filed 6-3-02; 8:45 am]

BILLING CODE 6450-01-P